COMMITTEE FOR THE IMPLEMENTATION OF TEXTILE AGREEMENTS

Determination under the Textile and Apparel Commercial Availability Provision of the Dominican Republic-Central America-United States Free Trade Agreement (CAFTA-DR Agreement)

September 3, 2009.

AGENCY: The Committee for the Implementation of Textile Agreements.

ACTION: Determination to add a product in unrestricted quantities to Annex 3.25 of the CAFTA-DR Agreement.

EFFECTIVE DATE: September 10, 2009.

SUMMARY: The Committee for the Implementation of Textile Agreements (“CITA”) has determined that certain woven modal-polyester apparel fabric, as specified below, is not available in commercial quantities in a timely manner in the CAFTA-DR countries. The product will be added to the list in Annex 3.25 of the CAFTA-DR Agreement in unrestricted quantities.

FOR FURTHER INFORMATION CONTACT: Maria Dybczak, Office of Textiles and Apparel, U.S. Department of Commerce, (202) 482-3651.

FOR FURTHER INFORMATION ON-LINE: http://web.ita.doc.gov/tacgi/CaftaReqTrack.nsf under “Approved Requests,” Reference number: 129.2009.08.10.Fabric.SoriniSamet forBWA

SUPPLEMENTARYINFORMATION:

Authority: The CAFTA-DR Agreement; Section 203(o)(4) of the Dominican Republic-Central America-United States Free Trade Agreement Implementation Act (CAFTA-DR Implementation Act), Pub. Law 109-53; the Statement of Administrative Action (SAA), accompanying the CAFTA-DR Implementation Act; and Presidential Proclamations 7987 (February 28, 2006) and 7996 (March 31, 2006); Modifications to Procedures for Considering Requests Under the Commercial Availability Provision of the Dominican Republic-Central America-United States Free Trade Agreement, 73 FR 53200 (Sept. 15, 2008) (“procedures”).

BACKGROUND:

The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(5), when the President of the United States determines that a fabric, yarn, or fiber is not available in commercial quantities in a timely manner in the territory of any Party. See Annex 3.25 of the CAFTA-DR Agreement; see also section 203(o)(4)(C) of the CAFTA-DR Implementation Act.

The CAFTA-DR Implementation Act requires the President to establish procedures governing the submission of a request and providing opportunity for interested entities to submit comments and supporting evidence before a commercial availability determination is made. In Presidential Proclamations 7987 and 7996, the President delegated to CITA the authority under section 203(o)(4) of CAFTA-DR Implementation Act for modifying the Annex 3.25 list. Pursuant to this authority, on September 15, 2008, CITA published modified procedures it would follow in considering requests to modify the Annex 3.25 list of products determined to be not commercially available in the territory of any Party to CAFTA-DR. See CITA procedures.

On August 10, 2009, the Chairman of CITA received a Request for a Commercial Availability Determination (“Request”) from Sorini Samet & Associates, LLC, on behalf of BWA, for certain woven modal-polyester apparel fabric, as specified below. On August 11, 2009, in accordance with CITA's procedures, CITA notified interested parties of the Request, which was posted on the dedicated website for CAFTA-DR Commercial Availability proceedings. In its notification, CITA advised that any Response with an Offer to Supply (“Response”) must be submitted by August 24, 2009, and any Rebuttal Comments to a Response must be submitted by August 28, 2009 in accordance with CITA's procedures at Sections 6 and 7. No interested entity submitted a Response to the Request advising CITA of an objection to the Request and an ability to supply the subject product.

In accordance with section 203(o)(4)(C) of the CAFTA-DR Implementation Act, and Section 8(c)(2) of CITA's procedures, as no interested entity submitted a Response objecting to the Request and demonstrating its ability to supply the subject product, CITA has determined to add the specified fabric to the list in Annex 3.25 of the CAFTA-DR Agreement.

Therefore, the subject product has been added to the list in Annex 3.25 of the CAFTA-DR Agreement in unrestricted quantities. A revised list has been posted on the dedicated website for CAFTA-DR Commercial Availability proceedings.

Specifications: Woven Modal-Polyester Apparel Fabric
HTSUS: 5516.12; 5516.13; 5516.22; 5516.23
NOTE: In the finishing process, in the event that the polyester filament content breaks and turns into a fiber, the classification would be a woven fabric of 100% polyester synthetic staple fiber (HTS 5516.92; 5516.93)
Fiber Content: 52 to 95% spun modal rayon; 5 to 48% filament polyester
Yarn Size: Spun modal rayon 44/1 to 88/1 metric; filament polyester 59 to 92 metric
Thread Count: 31 to 53 warp ends per centimeter; 27 to 36 filling picks per centimeter.
Weave Type: Twill or dobby or jacquard or oxford or satin
Weight: 100 to 300 grams per square meter
Width: 137 to 153 centimeters
Coloration: (Piece) dyed or yarns of different colors
Finishing Process: Wicked, UV blocker, peached, sanded wash, stain-resistant and teflon finish.

Kimberly Glas,
Chairman, Committee for the Implementation of Textile Agreements.

[FR Doc. E9-21903 Filed 9-9-09; 8:45 am]

BILLING CODE 3510-DS